DEPARTMENT OF TRANSPORTATION

Federal Aviation Administration

Proposed Advisory Circular; Engine Instructions for Continued Airworthiness

AGENCY: Federal Aviation Administration, DOT.

ACTION: Notice of availability of proposed advisory circular and request for comments

SUMMARY: This notice announces the availability of Advisory Circular (AC) No. 20.XX, Turbojet, Turboprop & Turbofan Engine Induction System Icing.

DATES: Comments must be received on or before February 23, 2000.

ADDRESSES: Send all comments on the proposed AC to the Federal Aviation Administration, Attn: Engine and Propeller Standards Staff, ANE-110, Engine and Propeller Directorate, Aircraft Certification Service, 12 New England Executive Park, Burlington, MA 01803-5299

FOR FURTHER INFORMATION CONTACT: John Fisher, Engine and Propeller Standards, Staff, ANE-110, at the above address, telephone (781) 238-7149, fax (781) 238-7199

SUPPLEMENTARY INFORMATION:

Comments Invited

A copy of the subject AC may be obtained by contacting the person named above under FOR FURTHER INFORMATION CONTACT. Interested persons are invited to comment on the proposed AC, and to submit such written data, views, or argument as they desire. Commenters must identify the subject of the AC, and submit comments in duplicate to the address specified above. All communications received on or before the closing date for comments will be considered by the Engine and Propeller Directorate, Aircraft Certification Service, before issuance of the final AC.

Background

This AC is on the subject of continued airworthiness of aircraft engines certificated under Title 14 of the Code of Federal Regulation (CFR) parts 33 and 25. The information and guidance presented in this AC would provide a method that can be used to demonstrate compliance with the requirements of §§ 25.1093, 33.68, 33.77, and 33.89.

This advisory circular, published under the authority granted to the Administrator by 49 U.S.C. 106(g), 401113, 44701-44702, 44704, provides guidance for these proposed requirements.

Issued in Burlington, Massachusetts, on January 13, 2000.

David A. Downey,
Assistant Manager, Engine and Propeller Directorate, Aircraft Certification Service.

[FR Doc. 00-1652 Filed 1-21-00; 8:45am]

BILLING CODE 4910-13-M